DEPARTMENT OF TRANSPORTATION

Federal Aviation Administration

14 CFR Part 71

[Docket No. FAA-2020-0923; Airspace Docket No. 20-AEA-18]

RIN 2120-AA66

Amendment, Establishment, and Revocation of Multiple Air Traffic Service (ATS) Routes in the Vicinity of Henderson, WV

AGENCY: Federal Aviation Administration (FAA), DOT.

ACTION: Final rule.

SUMMARY: This action amends Jet Route J-134, Area Navigation (RNAV) route Q-67, and VHF Omnidirectional Range (VOR) Federal airways V-45 and V-119; establishes RNAV route Q-176; and removes Jet Route J-91 and VOR Federal airway V-174 in the vicinity of Henderson, WV. The Air Traffic Service (ATS) route modifications are necessary due to the planned decommissioning of the VOR portion of the Henderson, WV, VOR/Tactical Air Navigation (VORTAC) navigation aid (NAVAID). The Henderson VORTAC provides navigation guidance for portions of the affected air traffic service (ATS) routes and the VOR portion is being decommissioned as part of the FAA's VOR Minimum Operational Network (MON) program.

DATES: Effective date 0901 UTC, June 17, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2020-0923 in the Federal Register (85 FR 70093; November 4, 2020), to amend Jet Route J-134, RNAV route Q-67, and VOR Federal airways V-45 and V-119; establish RNAV route Q-176; and remove Jet Route J-91 and VOR Federal airway V-174 in the vicinity of Henderson, WV. The proposed amendment, establishment, and revocation actions were due to the planned decommissioning of the VOR portion of the Henderson, WV, VORTAC NAVAID. Interested parties were invited to participate in this rulemaking effort by submitting written comments on the proposal. No comments were received.

Subsequent to the NPRM, the Office of the Federal Register published a NPRM correction for Docket No. FAA-2020-0923 in the Federal Register (85 FR 71293; November 9, 2020), correcting the RNAV route formatting for the Q-67 and Q-176 descriptions in the regulatory text and also adding the missing “Paragraph 6010(a) Domestic VOR Federal Airways” heading between the RNAV route Q-176 and VOR Federal airway V-45 descriptions in the regulatory text. The correct RNAV route formatting and Domestic VOR Federal Airways heading are included in the regulatory text in this rule.

Additionally, subsequent to the NPRM, the FAA published a rule for Docket No. FAA-2020-0709 in the Federal Register (85 FR 79117; December 9, 2020), amending VOR Federal airway V-119 by removing the airway segment overlying the Clarion, PA, VOR/Distance Measuring Equipment (VOR/DME) between the Indian Head, PA, VORTAC and the Clarion, PA, VOR/DME. That airway amendment, effective February 25, 2021, is included in this rule.

Lastly, the state reference for the Henderson, WV, VORTAC was incorrectly listed as Kentucky (KY) in the Proposal section of the NPRM for Jet Routes J-91 and J-134. The correct state is WV and this action corrects those errors.

Jet Routes are published in paragraph 2004, United States RNAV Q-routes are published in paragraph 2006, and VOR Federal airways are published in paragraph 6010(a) of FAA Order 7400.11E, dated July 21, 2020, and effective September 15, 2020, which is incorporated by reference in 14 CFR 71.1. The ATS routes listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending 14 CFR part 71 by modifying Jet Route J-134, RNAV route Q-67, and VOR Federal airways V-45 and V-119; establishing RNAV route Q-176; and removing Jet Route J-91 and VOR Federal airway V-174. The planned decommissioning of the VOR portion of the Henderson, WV, VORTAC has made this action necessary.

The Jet Route changes are outlined below.

J-91: J-91 extends between the Volunteer, TN, VORTAC and the Henderson, WV, VORTAC. The route is removed in its entirety.

J-134: J-134 extends between the Los Angeles, CA, VORTAC and the Linden, VA, VORTAC. The airway segment overlying the Henderson, WV, VORTAC between the Falmouth, KY, VOR/DME and the Linden, VA, VORTAC is removed. The unaffected portions of the existing route remain as charted.

The RNAV route changes are outlined below.

Q-67: Q-67 extends between the SMTTH, TN, waypoint (WP) and the DARYN, WV, WP. The route end point is changed from the DARYN, WV, WP to the Henderson, WV, DME (located approximately 1 nautical mile southwest of the DARYN WP), and the number of route points listed in the description are reduced while retaining the route as charted. Additionally, the TONIO, KY, fix, which is being retained in the route description, is changed to reflect the fix as a WP. The route will continue to provide RNAV routing capability from the Knoxville, TN, area northeastward to the Henderson, WV, area.

Q-176: Q-176 is a new route that extends between the Cimarron, NM, VORTAC and the OTTTO, VA, WP. This RNAV route mitigates the loss of the J-134 route segment between the Falmouth, KY, VOR/DME and the Linden, VA, VORTAC and is a direct overlay of the existing J-134. Additionally, it provides RNAV routing capability from the Cimarron, NM, area eastward to the Front Royal, VA, area.

The VOR Federal airway changes are outlined below.

V-45: V-45 extends between the New Bern, NC, VOR/DME and the Appleton, OH, VORTAC; and between the Saginaw, MI, VOR/DME and the Sault Ste. Marie, MI, VOR/DME. The airway segment overlying the Henderson, WV, VORTAC between the Charleston, WV, VOR/DME and the Appleton, OH, VORTAC is removed. The unaffected portions of the existing airway remain as charted.

V-119: V-119 extends between the Henderson, WV, VORTAC and the Indian Head, PA, VORTAC. The airway segment overlying the Henderson, WV, VORTAC between the Henderson, WV, VORTAC and the Parkersburg, WV, VOR/DME is removed. The unaffected portions of the existing airway remain as charted.

V-174: V-174 extends between the York, KY, VORTAC and the Elkins, WV, VORTAC. The airway is removed in its entirety.

All NAVAID radials in the VOR Federal airway descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying Jet Route J-134, RNAV route Q-67, and VOR Federal airways V-45 and V-119; establishing RNAV route Q-176; and removing Jet Route J-91 and VOR Federal airway V-174, due to the planned decommissioning of the VOR portion of the Henderson, WV, VORTAC NAVAID, qualifies for categorical exclusion under the National Environmental Policy Act (42 U.S.C. 4321et seq) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 2004 Jet Routes.

* * * * *

J-91 [Removed]

* * * * *

J-134 [Amended]

From Los Angeles, CA; Seal Beach, CA; Thermal, CA; Parker, CA; Drake, AZ; Gallup, NM; Cimarron, NM; Liberal, KS; Wichita, KS; Butler, MO; St Louis, MO; to Falmouth, KY.

* * * * *

Paragraph 2006 United States Area Navigation Routes.

* * * * *

Q-67 SMTTH, TN to Henderson, WV (HNN) [Amended]
SMTTH, TN | WP | (Lat. 35°54′41.57″ N, long. 084°00′19.74″ W)
TONIO, KY | WP | (Lat. 37°15′15.20″ N, long. 083°01′47.53″ W)
Henderson, WV (HNN) | DME | (Lat. 38°45′14.85″ N, long. 082°01′34.20″ W)
* * * * * * *
Q-176 Cimarron, NM (CIM) to OTTTO, VA [New]
Cimarron, NM (CIM) | VORTAC | (Lat. 36°29′29.03″ N, long. 104°52′19.20″ W)
KENTO, NM | WP | (Lat. 36°44′19.10″ N, long. 103°05′57.13″ W)
Liberal, KS (LBL) | VORTAC | (Lat. 37°02′39.82″ N, long. 100°58′16.31″ W)
Wichita, KS (ICT) | VORTAC | (Lat. 37°44′42.92″ N, long. 097°35′01.79″ W)
Butler, MO (BUM) | VORTAC | (Lat. 38°16′19.49″ N, long. 094°29′17.74″ W)
St Louis, MO (STL) | VORTAC | (Lat. 38°51′38.48″ N, long. 090°28′56.52″ W)
GBEES, IN | FIX | (Lat. 38°41′54.72″ N, long. 085°10′13.03″ W)
BICKS, KY | WP | (Lat. 38°38′29.92″ N, long. 084°25′20.82″ W)
Henderson, WV (HNN) | DME | (Lat. 38°45′14.85″ N, long. 082°01′34.20″ W)
OTTTO, VA | WP | (Lat. 38°51′15.81″ N, long. 078°12′20.01″ W)

* * * * *

Paragraph 6010(a) Domestic VOR Federal Airways.

* * * * *

V-45 [Amended]

From New Bern, NC; Kinston, NC; Raleigh-Durham, NC; INT Raleigh-Durham 275° and Greensboro, NC, 105° radials; Greensboro; INT Greensboro 334° and Pulaski, VA, 147° radials; Pulaski; Bluefield, WV; to Charleston, WV. From Saginaw, MI; Alpena, MI; to Sault Ste Marie, MI.

* * * * *

V-119 [Amended]

From Parkersburg, WV; INT Parkersburg 067° and Indian Head, PA, 254° radials; to Indian Head.

* * * * *

V-174 [Removed]

* * * * *

Issued in Washington, DC, on March 4, 2021.
George Gonzalez,
Acting Manager, Rules and Regulations Group.

[FR Doc. 2021-04851 Filed 3-9-21; 8:45 am]

BILLING CODE 4910-13-P